DEPARTMENT OF HEALTH AND HUMAN SERVICES

Substance Abuse and Mental Health Services Administration

Notice of Republication of SAMHSA's Standard Grant Announcements

AGENCY: Substance Abuse and Mental Health Services Administration, HHS.

ACTION: Notice of republication of SAMHSA's standard grant announcements.

SUMMARY: This is a republication of the Substance Abuse and Mental Health Services Administration's standard grant announcements for Services Grants, Infrastructure Grants, Best Practices Planning and Implementation Grants, and Service to Science Grants. These announcements were previously published November 21, 2003. The primary purpose of this republication is to revise the criteria used to screen out applications from peer review. Motivated by the need to assure equitable opportunity and a “level playing field” to all applicants, SAMHSA believes the screening criteria common to those announcements will not best serve the public unless revised and republished. This republication makes those criteria more lenient, permitting a greater number of applications to be reviewed. The revisions to the criteria can be found, in their entirety, in: Section IV, Application and Submission Information; and Appendix A, Checklist for Formatting Requirements and Screenout Criteria for SAMHSA Grant Applications. Additional references to the criteria elsewhere in the text have been changed to be consistent with the revised criteria in Section IV and Appendix A.

Authority: Sections 509, 516, and 520A of the Public Health Service Act.

In addition, this republication includes an additional award criterion in Section V, updated agency contact information in Section VII, and minor technical changes to comply with the formatting requirements for announcement of Federal funding opportunities, as specified by the Office of Management and Budget.

The aforementioned are the only changes SAMHSA has made to the four standard grant announcements in this republication. This notice is followed by four notices that provide the revised and final text for SAMHSA's four standard announcements.

DATES: Use of the standard grant announcements will be effective March 8, 2004. The standard grant announcements must be used in conjunction with separate Notices of Funding Availability (NOFAs) that will provide application due dates and other key dates for specific SAMHSA grant funding opportunities.

ADDRESSES: Questions about SAMHSA's standard grant announcements may be directed to Cathy Friedman, M.A., Office of Policy, Planning and Budget, 5600 Fishers Lane, Room 12C-26, Rockville, Maryland 20857. Fax: (301-594-6159). E-mail: cfriedma@samhsa.gov.

FOR FURTHER INFORMATION CONTACT: Cathy Friedman, M.A., Office of Policy, Planning and Budget, 5600 Fishers Lane, Room 12C-26, Rockville, Maryland 20857. Fax: (301-594-6159) E-mail: cfriedma@samhsa.gov. Phone: (301) 443-6092.

SUPPLEMENTARY INFORMATION: Starting in FY 2004, SAMHSA is changing its approach to announcing and soliciting applications for its discretionary grants. SAMHSA will publish four standard grant announcements that will describe the general program design and provide application instructions for four types of grants—Services Grants, Infrastructure Grants, Best Practices Planning and Implementation Grants, and Service-to-Science Grants. These standard grant announcements will be posted on SAMHSA's web page and will be available from SAMHSA's clearinghouses on an ongoing basis. The standard announcements will be used in conjunction with brief Notices of Funding Availability (NOFAs) that will announce the availability of funds for specific grant funding opportunities within each of the standard grant programs (e.g., Homeless Treatment grants, Statewide Family Network grants, HIV/AIDS and Substance Abuse Prevention Planning Grants, etc.).

The Notices of Funding Availability (NOFAs) announcing the availability of funds for specific grant funding opportunities will be published separately in the Federal Register, and posted on the Federal grants Web site (http://www.grants.gov) and on the SAMHSA Web site (http://www.samhsa.gov). The NOFAs will:

• Identify any specific target population or issue for the specific grant funding opportunity,

• Identify which of the four standard announcements applicants must use to prepare their applications,

• Specify total funding available for the first year of the grants and the expected size and number of awards,

• Specify the application deadline,

• Note any specific program requirements for each funding opportunity, and

• Include any limitations or exceptions to the general provisions in the standard announcement.

Applicants will need to have both the NOFA and the appropriate standard announcement to prepare their applications. Both documents will be provided, along with application materials, in the application kits available from SAMHSA's clearinghouses as well as on SAMHSA's Web site. SAMHSA's clearinghouse for the Center for Mental Health Services (CMHS) is the National Mental Health Information Center, which can be reached at 1-800-789-2647. The clearinghouse for the Center for Substance Abuse Treatment (CSAT) and Center for Substance Abuse Prevention (CSAP) is the National Clearinghouse for Alcohol and Drug Information (NCADI), which can be reached at 1-800-729-6686.

SAMHSA anticipates that the four standard grant announcements will be used for the majority of its grant funding opportunities. However, there will be some funding opportunities that do not fit the standard announcements. In those instances, separate stand-alone grant announcements will be published and provided to applicants as they have been in the past (i.e., in the Federal Register, on the SAMHSA Web site, on the Federal grants Web site, and through SAMHSA's clearinghouses).

Dated: February 26, 2004.
Daryl Kade,
Director, Office of Policy, Planning and Budget, Substance Abuse and Mental Health Services Administration.

[FR Doc. 04-4690 Filed 3-5-04; 8:45 am]

BILLING CODE 4162-20-P